DEPARTMENT OF TRANSPORTATION

Federal Aviation Administration

14 CFR Part 39

[Docket No. 2003-NE-43-AD; Amendment 39-13835; AD 2004-22-07]

RIN 2120-AA64

Airworthiness Directives; General Electric Company (GE) CF6-80C2 Turbofan Engines; Correction

AGENCY: Federal Aviation Administration, DOT.

ACTION: Final rule; correction.

SUMMARY: This document makes a correction to Airworthiness Directive (AD) 2004-22-07. That AD applies to GE CF6-80C2 turbofan engines with certain part number (P/N) high pressure turbine stage 2 nozzle guide vanes (HPT S2 NGVs) installed. That AD was published in the Federal Register on October 27, 2004 (69 FR 62571). The phrase “5.0 or more cycles per flight leg” in the Compliance section is incorrect. This document corrects that phrase. In all other respects, the original document remains the same.

EFFECTIVE DATE: Effective March 4, 2005.

FOR FURTHER INFORMATION CONTACT: Eugene Triozzi, Aerospace Engineer, Engine Certification Office, FAA, Engine and Propeller Directorate, 12 New England Executive Park, Burlington, MA; telephone (781) 238-7148; fax (781) 238-7199.

SUPPLEMENTARY INFORMATION: A final rule AD, FR Doc. 04-23929 that applies to GE CF6-80C2 turbofan engines with certain P/N HPT S2 NGVs installed, was published in the Federal Register on October 27, 2004 (69 FR 62571). The following correction is needed:

PART 39—[CORRECTED]

§ 39.13 [Corrected]

On page 62574, in the first column, in paragraph (h)(1), in the second line, “more cycles per flight leg,” is corrected to read “more hours per flight leg,”

Issued in Burlington, MA, on February 24, 2005.
Jay J. Pardee,
Manager, Engine and Propeller Directorate, Aircraft Certification Service.

[FR Doc. 05-4072 Filed 3-3-05; 8:45 am]

BILLING CODE 4910-13-U